NUCLEAR REGULATORY COMMISSION

[NRC-2014-0158]

Regulatory Guide 1.37, “Quality Assurance Requirements for Cleaning of Fluid Systems and Associated Components of Water-Cooled Nuclear Power Plants”

AGENCY: Nuclear Regulatory Commission.

ACTION: Regulatory guide; withdrawal.

SUMMARY: The U.S. Nuclear Regulatory Commission (NRC) is withdrawing Regulatory Guide (RG) 1.37, “Quality Assurance Requirements for Cleaning of Fluid Systems and Associated Components of Water-Cooled Nuclear Power Plants,” (Agencywide Documents Access and Management System (ADAMS) under Accession No. ML070250571). The RG is being withdrawn because its guidance and regulatory positions are contained in RG 1.28, Revision 4, “Quality Assurance Program Criteria (Design and Construction)”; (ADAMS Accession No. ML100160003), and RG 1.33, Revision 3, “Quality Assurance Program Requirements (Operation),” (ADAMS Accession No. ML13109A458).

DATES: The effective date of the withdrawal of Regulatory Guide 1.37 is July 2, 2014.

ADDRESSES: Please refer to Docket ID NRC-2014-0158 when contacting the NRC about the availability of information regarding this document. You may obtain publicly-available information related to this document using any of the following methods:

• Federal Rulemaking Web site: Go to http://www.regulations.gov and search for Docket ID NRC-2014-0158. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly-available documents online in the ADAMS Publicly Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Andrea T. Keim, Office of New Reactors, telephone: 301-415-1671, email: Andrea.Keim@nrc.gov; or Stephen Burton, Office of Nuclear Regulatory Research, telephone: 301-415-7000, email: Stephen.Burton@nrc.gov. Both of the U.S. Nuclear Regulatory Commission, Washington, DC 20555-0001.

SUPPLEMENTARY INFORMATION:

I. Introduction

The NRC is withdrawing RG 1.37 because its guidance and regulatory positions are contained in RG 1.28, Revision 4, “Quality Assurance Program Criteria (Design and Construction)”; and RG 1.33, Revision 3, “Quality Assurance Program Requirements (Operation).” The NRC issued RG 1.28, Revision 4 in June 2010, which endorses NQA-1-2008 and the NQA-1a-2009 Addenda, Parts I and II. NQA-1-2008 and NQA-1a-2009 Addenda Part II incorporate the requirements and regulatory positions contained in RG 1.37, Revision 1. Additionally, RG 1.33 endorses ANSI/ANS 3.2-2012. ANSI/ANS 3.2-2012, Section 1.2, “Purpose,” requires implementation of the applicable sections of NQA-1-2008 and NQA-1a-2009 during the operational phase of power plant operation. Any update to RG 1.37 to endorse NQA-1-2008 and NQA-1a-2009, Part II, Subpart 2.1 would be redundant since the standards are already endorsed in RG 1.28, Revision 4 and in RG 1.33, Revision 3.

II. Additional Information

The withdrawal of RG 1.37 does not alter any prior or existing licensing commitments based on its use. The guidance provided in this RG is no longer necessary. Regulatory guides may be withdrawn when their guidance no longer provides useful information, or is superseded by technological innovations, congressional actions, or other events.

Regulatory guides are revised for a variety of reasons and the withdrawal of an RG should be thought of as the final revision of the guide. Although an RG is withdrawn, current licensees may continue to use it, and withdrawal does not affect any existing licenses or agreements. Withdrawal of an RG means that the RG should not be used for future NRC licensing activities. However, although an RG is withdrawn, changes to existing licenses can be accomplished using other regulatory products.

Dated at Rockville, Maryland, this 2nd day of July, 2014.
For the Nuclear Regulatory Commission.
Harriet Karagiannis,
Acting Branch Chief, Regulatory Guidance and Generic Issues Branch, Division of Engineering, Office of Nuclear Regulatory Research.

[FR Doc. 2014-15938 Filed 7-8-14; 8:45 am]

BILLING CODE 7590-01-P